DEPARTMENT OF TRANSPORTATION

Federal Aviation Administration

14 CFR Part 39

[Docket No. FAA-2009-1125; Directorate Identifier 2009-SW-50-AD; Amendment 39-16129; AD 2009-19-51]

RIN 2120-AA64

Airworthiness Directives; Agusta S.p.A. (Agusta) Model AB139 and AW139 Helicopters

AGENCY: Federal Aviation Administration (FAA), Department of Transportation (DOT).

ACTION: Final rule; request for comments.

SUMMARY: This document publishes in the Federal Register an amendment adopting Airworthiness Directive (AD) 2009-19-51, which was sent previously to all known U.S. owners and operators of the Agusta Model AB139 and AW139 helicopters by individual letters. This AD requires inspecting the tail panels for debonding and, if the debonding area exceeds a certain limit, repairing the tailboom. This AD results from a mandatory continuing airworthiness information (MCAI) AD issued by the European Aviation Safety Agency (EASA), which is the Technical Agent for the Member States of the European Community. The MCAI AD states that while taxiing, the tailboom of a Model AW139 helicopter bent and collapsed. Also, EASA had received previous reports of evidence of debonding on some tailboom panels of the specified Agusta model helicopters. This condition, if not corrected, could result in failure of a tailboom and subsequent loss of control of the helicopter.

DATES: Effective on February 8, 2010, to all persons except those persons to whom it was made immediately effective by Emergency AD 2009-19-51, issued on September 16, 2009, which contained the requirements of this amendment.

Comments for inclusion in the Rules Docket must be received on or before March 23, 2010.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Agusta, Via Giovanni Agusta, 520 21017 Cascina Costa di Samarate (VA), Italy, telephone 39 0331-229111, fax 39 0331-229605/222595, or at http://customersupport.agusta.com/technical_advice.php.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: DOT/FAA Southwest Region, Sharon Miles, ASW-111, Aviation Safety Engineer, Rotorcraft Directorate, Regulations and Guidance Group, 2601 Meacham Blvd., Fort Worth, Texas 76137, telephone (817) 222-5122, fax (817) 222-5961.

SUPPLEMENTARY INFORMATION: On September 16, 2009, we issued Emergency AD 2009-19-51 to all known U.S. owners and operators of the Agusta Model AB139 and AW139 helicopters by individual letters. The AD requires inspecting the tail panels for debonding and, if the debonding area exceeds a certain limit repairing the tailboom. That action was prompted by the tailboom of a Model AW139 helicopter bending and collapsing during taxiing. That condition, if not corrected, could result in failure of a tailboom and subsequent loss of control of the helicopter.

The FAA has reviewed Agusta Alert Bollettino Tecnico (ABT) Nos. 139-193 and 139-194, both dated September 3, 2009. These ABTs refer to the aircraft maintenance publications for inspecting the affected tail panels for signs of debonding. If you find evidence of debonding, the ABTs also advise you to contact the manufacturer for repair instructions.

EASA has issued AD No. 2009-0198-E, dated September 4, 2009, which supersedes EASA AD No. 2008-0157, dated August 13, 2008, to correct an unsafe condition for the specified model helicopters. The latest EASA AD requires repetitive inspections of the tailboom panels at closer intervals. In case of debonding, the EASA AD requires you to mark the debonded areas for identification, contact the manufacturer for instructions, and follow their corrective actions.

These helicopter models have been approved by the aviation authority of Italy and are approved for operation in the United States. Pursuant to our bilateral agreement with Italy, EASA, their technical agent, has notified us of the unsafe condition described in the MCAI AD. We are issuing this AD because we evaluated all information provided by EASA and determined the unsafe condition exists and is likely to exist or develop on other helicopters of these same type designs.

Since the unsafe condition described is likely to exist or develop on other Agusta Model AB139 and AW139 helicopters of these same type designs, the FAA issued Emergency AD 2009-19-51 to prevent failure of a tailboom and subsequent loss of control of a helicopter. The short compliance time involved is required because the previously described critical unsafe condition can adversely affect the structural integrity and the controllability of the helicopter. Therefore, inspecting the tail panels for debonding within 50 hours time-in-service (TIS) for certain serial-numbered helicopters and within 25 hours TIS or 30 days, whichever occurs first, for certain other serial-numbered helicopters and removing the strake if you find bond separation are required before further flight. Also, this AD requires measuring the debonded area and repairing the tailboom, before further flight, if the debonded area exceeds the required measurement before further flight. Therefore, this AD must be issued immediately.

Since it was found that immediate corrective action was required, notice and opportunity for prior public comment thereon were impracticable and contrary to the public interest, and good cause existed to make the AD effective immediately by individual letters issued on September 16, 2009, to all known U.S. owners and operators of Agusta Model AB139 and AW139 helicopters. These conditions still exist, and the AD is hereby published in the Federal Register as an amendment to 14 CFR 39.13 to make it effective to all persons with two minor changes. The Emergency AD contained two paragraph (e)'s; therefore, we have changed the Joint Aircraft System/Component (JASC) Code paragraph to paragraph (f) of this AD. Also, the aluminum hammer part number (P/N) was incorrectly stated as P/N 109-3101-58-1 in the Emergency AD and should be P/N 109-3101-58-2. Hammer, P/N 109-3101-58-1, is a steel hammer. We have made that correction in this AD. However, for purposes of this AD, the use of either the steel hammer or the aluminum hammer is acceptable. We have also changed Note 1 of the AD to clarify that the ABTs are guidance for accomplishing the AD requirements. We have determined that these changes will neither increase the economic burden on any operator nor increase the scope of the AD.

This AD differs from the MCAI AD in that we refer to flight hours as hours TIS. Also, we do not require you to contact the manufacturer nor do we reference their ABT, which references the maintenance manual. We have also inserted the inspection requirements and the debonding limits in this AD which are consistent with those in the maintenance manual.

We estimate that this AD will affect about 7 helicopters. We also estimate that it will take about 2 work-hours per helicopter to inspect the tail panels for debonding. The average labor rate is $80 per work-hour. The parts cost is minimal. Based on these figures, we estimate that the cost of this AD on U.S. operators will be $1,120, assuming no tailboom needs repair.

Comments Invited

This AD is a final rule that involves requirements that affect flight safety and was not preceded by notice and an opportunity for public comment; however, we invite you to submit any written data, views, or arguments regarding this AD. Send your comments to an address listed under ADDRESSES. Include “Docket No. FAA-2009-1125; Directorate Identifier 2009-SW-50-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78).

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-19-51 Agusta S.p.A.: Amendment 39-16129; Docket No. FAA-2009-1125; Directorate Identifier 2009-SW-50-AD.

Applicability

This AD applies to Model AB139 and AW139 helicopters, certificated in any category.

Compliance

Required as indicated.

To prevent failure of a tailboom and subsequent loss of control of the helicopter, do the following:

(a) Using the large end of the head of an aluminum hammer, part number 109-3101-58-2 (GF-06-00), tap inspect the full skin surface of the tailboom between Stations 8700 and 11019.5 for a hollow or dull sound, which will indicate a bond separation or debond area. Do the inspections at the following intervals:

(1) For helicopters, serial number (S/N) 31006, 31020, 31022, 31042, 31136, 31157, and 31248, within 5-hours time-in-service (TIS), unless done previously, and thereafter at intervals not to exceed 50-hours TIS.

Note 1: Agusta Alert Bollettino Tecnico Nos. 139-193, and 139-194, both dated September 3, 2009 (ABTs), contain guidance on accomplishing the required actions of this AD. Following the Compliance Instructions in the ABTs accomplishes the requirements of this AD.

(2) For all helicopters, except S/N 31006, 31020, 31022, 31042, 31136, 31157, and 31248, within 25-hours TIS or 30 days, whichever occurs first, unless done previously, and thereafter at intervals not to exceed 50-hours TIS.

(b) If you find any bond separation, use the small end of the head of the hammer to identify the edges of the debonded area. If the debonded area goes beyond the strake, remove the strake. Using a marking pen or chalk, mark the edge of the debonded area.

(1) Measure the surface area of each debonded area, the distance between the edges of the debonded areas, and the distance of the edge of each debonded area from the edge of the bond joint.

(2) Before further flight, repair the tailboom using FAA-approved data and procedures if:

(i) The debonded area exceeds 320 mm² (0.5 in²),

(ii) The distance between the edges of any two debonded areas is less than or equal to three times the largest debond dimension of the two debonded areas measured on a line between the centers of the two debonded areas, or

(iii) The edge of any debonded area is less than 3 mm (0.118 in) from the edge of the panel bond joint.

(c) To request a different method of compliance or a different compliance time for this AD, follow the procedures in 14 CFR 39.19. Contact the Manager, Safety Management Group, ATTN: DOT/FAA Southwest Region, Sharon Miles, ASW-111, Aviation Safety Engineer, Rotorcraft Directorate, Regulations and Guidance Group, 2601 Meacham Blvd., Fort Worth, Texas 76137, telephone (817) 222-5122, fax (817) 222-5961, for information about previously approved alternative methods of compliance.

(d) Special flight permits will not be issued.

(e) Copies of the applicable service information may be obtained from Agusta, Via Giovanni Agusta, 520 21017 Cascina Costa di Samarate (VA), Italy, telephone 39 0331-229111, fax 39 0331-229605/222595, or at http://customersupport.agusta.com/technical_advice.php.

(f) The JASC Code for this part is Code 5302: Rotorcraft Tailboom.

Note 2: The subject of this AD is addressed in European Aviation Safety Agency AD No. 2009-0198-E, dated September 4, 2009.

(g) This amendment becomes effective on February 8, 2010, to all persons except those persons to whom it was made immediately effective by Emergency AD 2009-19-51, issued September 16, 2009, which contained the requirements of this amendment.

Issued in Fort Worth, Texas, on January 11, 2010.
Mark R. Schilling,
Acting Manager, Rotorcraft Directorate, Aircraft Certification Service.

[FR Doc. 2010-1159 Filed 1-21-10; 8:45 am]

BILLING CODE 4910-13-P